DEPARTMENT OF ENERGY

Federal Energy Regulatory Commission

Notice of Commission Staff Attendance at MISO Meetings

The Federal Energy Regulatory Commission hereby gives notice that members of the Commission and Commission staff may attend the following MISO-related meetings:

• Advisory Committee (10:00 a.m.-1:00 p.m., Local Time)

○ February 20 (Windsor Court Hotel, 300 Gravier Street, New Orleans, LA)

○ March 27

○ April 24

○ May 22

○ July 24

○ August 21 (St. Paul Hotel, 350 Market St., St. Paul, MN)

○ September 25

○ October 23

○ November 20

○ December 11

• Board of Directors Audit & Finance Committee

○ February 20 (Windsor Court Hotel, 300 Gravier Street, New Orleans, LA)

▪ 3:30 p.m.-4:45 p.m.

○ April 24 (1:00 p.m.-3:00 p.m.)

○ August 21 (St. Paul Hotel, 350 Market St., St. Paul, MN, 2:00 p.m.-3:00 p.m.)

○ October 23 (3:15 p.m.-4:45 p.m.)

○ November 20 (10:00 a.m.-1:00 p.m.)

• Board of Directors (8:30 a.m.-10:00 a.m., Local Time)

○ February 21 (Windsor Court Hotel, 300 Gravier Street, New Orleans, LA)

○ April 25

○ June 20 (Grand Traverse Lodge, 100 Grand Traverse Village Blvd., Acme, MI)

○ August 22 (St. Paul Hotel, 350 Market St., St. Paul, MN)

○ October 24

○ December 12

• Board of Directors Markets Committee (8:00 a.m.-10:00 a.m., Local Time)

○ February 20 (Windsor Court Hotel, 300 Gravier Street, New Orleans, LA)

○ March 27

○ April 24

○ May 15

○ June 19 (Grand Traverse Lodge, 100 Grand Traverse Village Blvd., Acme, MI)

○ July 24

○ August 21 (St. Paul Hotel, 350 Market St., St. Paul, MN)

○ September 25

○ October 23

○ November 27

○ December 11

• Board of Directors System Planning Committee

○ February 19 (5:15 p.m.-6:15 p.m.)(Windsor Court Hotel, 300 Gravier Street, New Orleans, LA)

○ April 24 (3:30 p.m.-5:15 p.m.)

○ June 18 (11:15 a.m.-12:45 p.m.) (Grand Traverse Lodge, 100 Grand Traverse Village Blvd., Acme, MI)

○ August 21 (5:00 p.m.-6:30 p.m.) (St. Paul Hotel, 350 Market St., St. Paul, MN)

○ October 22 (4:00-5:30 p.m.)

○ November 21 (10 a.m.-12 p.m.)

○ December 11 (3:15-5:15 p.m.)

• MISO Informational Forum (3:00 p.m.-5:00 p.m., Local Time)

○ February 19

○ March 26

○ April 23

○ May 21

○ July 23

○ August 20 (St. Paul Hotel, 350 Market St., St. Paul, MN)

○ September 24

○ October 22

○ November 19

○ December 17

• MISO Market Subcommittee (9:00 a.m.-4:00 p.m., Local Time)

○ February 5

○ March 5

○ April 2

○ April 30

○ June 4

○ July 9

○ August 6

○ September 3

○ October 1

○ October 29

○ December 3

• MISO Supply Adequacy Working Group (9:00 a.m.-5:00 p.m., Local Time)

○ February 7

○ March 7

○ April 4

○ May 2

○ June 6

○ July 11

○ August 8

○ September 5

○ October 3

○ October 31

○ December 5

• MISO Regional Expansion Criteria and Benefits Task Force (9:00 a.m.-5:00 p.m., Local Time)

○ January 31

○ February 28

○ March 21

○ April 18

○ May 16

○ June 27

○ August 1

○ August 29

○ September 19

○ October 17

○ November 14

○ December 19

Except as noted, all of the meetings above will be held at: MISO Headquarters 701 City Center Drive, 720 City Center Drive, and Carmel, IN 46032

Further information may be found at www.midwestiso.org.

The above-referenced meetings are open to the public.

The discussions at each of the meetings described above may address matters at issue in the following proceedings:

Docket Nos. ER04-691, EL04-104 and ER04-106, et al., Midwest Independent Transmission System Operator, Inc., et al.

Order No. 890, Preventing Undue Discrimination and Preference in Transmission Service

Docket Nos. ER06-18, et al., Midwest Independent Transmission System Operator, Inc.

Order Nos. 693 and 693-A, Mandatory Reliability Standards for Bulk-Power System

Docket No. AD07-12, Reliability Standard Compliance and Enforcement in Regions with Independent System Operators and Regional Transmission Organizations

Docket No. ER08-394, Midwest Independent Transmission System Operator, Inc.

Docket No. RM08-19, Mandatory Reliability Standards for the Calculation of Available Transfer, Capacity Benefit Margins, Transmission Reliability Margins, Total Transfer Capability, and Existing Transmission Commitments and Mandatory Reliability Standards for the Bulk Power System

Docket No. AD09-10, National Action Plan on Demand Response

Docket No. AD09-15, Version One Regional Reliability Standard for Resource and Demand Balancing

Docket No. ER09-1049, Midwest Independent Transmission System Operator, Inc.

Docket No. ER09-1074, Midwest Independent Transmission System Operator, Inc.

Docket No. ER09-1431, Midwest Independent Transmission System Operator, Inc.

Docket No. AD10-5, RTO/ISO Performance Metrics

Docket No. AD10-14, Reliability Standards Development and NERC and Regional Entity Enforcement

Docket Nos. ER10-9, 10-73, 10-74, Dairyland Power Cooperative v. Midwest Independent Transmission System Operator, Inc.

Docket Nos. ER10-209, EL10-12, and ER10-640, Commonwealth Edison Company and Commonwealth Edison Company of Indiana, Inc. v. Midwest Independent Transmission System Operator, Inc.

Docket No. ER10-1791, Midwest Independent Transmission System Operator, Inc. and the Midwest ISO Transmission Owners

Docket No. ER10-2283, Midwest Independent Transmission System Operator, Inc.

Docket No. RM10-11, Integration of Variable Energy Resources

Docket No. RM10-13, Credit Reforms in Organized Wholesale Electric Markets

Docket No. RM10-17 and EL09-68, Demand Response Compensation in Organized Wholesale Energy Markets

Docket No. RM10-23 and Order No. 1000, Transmission Planning and Cost Allocation by Transmission Owning and Operating Public Utilities

Docket No. ER11-2275, Midwest Independent Transmission System Operator, Inc.

Docket No. ER11-3279, Midwest Independent Transmission System Operator, Inc.

Docket No. ER11-4081, Midwest Independent Transmission System Operator, Inc.

Docket No. ER12-33, Midwest Independent Transmission System Operator, Inc.

Docket No. ER12-351, Midwest Independent Transmission System Operator, Inc.

Docket No. ER11-3415, Midwest Independent Transmission System Operator, Inc.

Docket No. ER12-451, Midwest Independent Transmission System Operator, Inc.

Docket No. ER12-480, Midwest Independent Transmission System Operator, Inc.

Docket No. OA08-53, Midwest Independent Transmission System Operator, Inc.

Docket No. EL12-11, Rail Splitter Wind Farm v. Ameren and MISO

Docket No. ER13-506, Midwest Independent Transmission System Operator, Inc.

Docket No. ER12-1179, Midwest Independent Transmission System Operator, Inc.

Docket No. ER12-2617, Midwest Independent Transmission System Operator, Inc.

Docket No. ER13-536, Midwest Independent Transmission System Operator, Inc.

Docket No. ER13-150, Midwest Independent Transmission System Operator, Inc.

Docket No. ER13-543, Midwest Independent Transmission System Operator, Inc.

Docket No. ER12-668, Midwest Independent Transmission System Operator, Inc.

Docket No. ER12-678, Midwest Independent Transmission System Operator, Inc.

Docket No. ER13-545, Midwest Independent Transmission System Operator, Inc.

Docket No. ER12-1663, Midwest Independent Transmission System Operator, Inc.

Docket No. ER12-2302, Midwest Independent Transmission System Operator, Inc.

Docket No. ER13-596, Midwest Independent Transmission System Operator, Inc.

Docket No. ER13-603, Midwest Independent Transmission System Operator, Inc.

Docket No. ER12-715, Midwest Independent Transmission System Operator, Inc.

Docket No. ER13-263, Midwest Independent Transmission System Operator, Inc.

Docket No. ER12-2706, Midwest Independent Transmission System Operator, Inc.

Docket No. ER12-817, Midwest Independent Transmission System Operator, Inc.

Docket No. ER13-242, Midwest Independent Transmission System Operator, Inc.

Docket No. ER13-636, Midwest Independent Transmission System Operator, Inc.

Docket No. ER13-665, Midwest Independent Transmission System Operator, Inc.

Docket No. ER13-674, Midwest Independent Transmission System Operator, Inc.

Docket No. EL13-13, ITC Midwest, LLC

Docket No. ER13-37, Midwest Independent Transmission System Operator, Inc.

Docket No. ER13-38, Midwest Independent Transmission System Operator, Inc.

Docket No. ER13-708, Midwest Independent Transmission System Operator, Inc.

Docket No. ER13-669, Midwest Independent Transmission System Operator, Inc.

Docket No. ER13-187, Midwest Independent Transmission System Operator, Inc.

Docket No. ER13-186, Midwest Independent Transmission System Operator, Inc.

Docket No. ER13-101, Midwest Independent Transmission System Operator, Inc.

Docket No. ER13-89, MidAmerican Energy Company

Docket No. ER12-2129, Midwest Independent Transmission System Operator, Inc.

Docket No. ER12-1266, Midwest Independent Transmission System Operator, Inc.

Docket No. ER12-1265, Midwest Independent Transmission System Operator, Inc.

Docket No. ER12-427, Midwest Independent Transmission System Operator, Inc.

Docket No. ER12-1564, Midwest Independent Transmission System Operator, Inc.

Docket No. ER12-1194, Midwest Independent Transmission System Operator, Inc.

Docket No. ER12-971, Midwest Independent Transmission System Operator, Inc.

For more information, contact Patrick Clarey, Office of Energy Markets Regulation, Federal Energy Regulatory Commission at (317) 249-5937 or patrick.clarey@ferc.gov, or Christopher Miller, Office of Energy Markets Regulation, Federal Energy Regulatory Commission at (317) 249-5936 or christopher.miller@ferc.gov.

Dated: January 25, 2013.
Kimberly D. Bose,
Secretary.

[FR Doc. 2013-02243 Filed 2-1-13; 8:45 am]

BILLING CODE 6717-01-P